DEPARTMENT OF THE INTERIOR

Gila Box Riparian National Conservation Area Advisory Committee—Notice of Renewal

AGENCY: Bureau of Land Management, Interior.

ACTION: Notice of renewal of the Gila Box Riparian National Conservation Area Advisory Committee.

SUMMARY: This notice is published in accordance with Section 9(a)(2) of the Federal Advisory Committee Act of 1972 (Pub. L. 92-463). Notice is hereby given that the Secretary of the Interior has renewed the Bureau of Land Management's Gila Box Riparian National Conservation Area Advisory Committee.

The purpose of the Committee is to advise the Secretary with respect to the preparation and implementation of the Gila Box Riparian National Conservation Area Management Plan.

FOR FURTHER INFORMATION CONTACT: Maggie Langlas, National Landscape Conservation System (WO-170), Bureau of Land Management, 1620 L Street, NW., Room 301 LS, Washington, DC 20036, telephone (202) 452-7787.

Certification Statement

I hereby certify that the renewal of the Gila Box Riparian National Conservation Area Advisory Committee is necessary and in the public interest in connection with the Secretary of the Interior's responsibilities to manage the lands, resources, and facilities administered by the Bureau of Land Management.

Dated: March 31, 2006.
Gale A. Norton
Secretary of the Interior.

[FR Doc. E6-5432 Filed 4-12-06; 8:45 am]

BILLING CODE 4310-40-P